DEPARTMENT OF HEALTH AND HUMAN SERVICES

National Institutes of Health

National Institute on Aging; Amended Notice of Meeting

Notice is hereby given of a change in the meeting of the Neuroscience of Aging Review Committee, October 10, 2013, 04:00 p.m. to October 11, 2013, 02:00 p.m., Residence Inn Bethesda, 7335 Wisconsin Avenue, Bethesda, MD 20814, which was published in the Federal Register on August 23, 2013, 52552 FR 164.

Meeting will be held on December 20, 2013 from 10:00 a.m. until 5:00 p.m. at the National Institute on Aging, 7201 Wisconsin Avenue, Suite 2C212, Bethesda, MD 20892. The meeting is closed to the public.

Dated: October 30, 2013.
Melanie J. Gray,
Program Analyst, Office of Federal Advisory Committee Policy.

[FR Doc. 2013-26428 Filed 11-4-13; 8:45 am]

BILLING CODE 4140-01-P